DEPARTMENT OF ENERGY

Federal Energy Regulatory Commission

Combined Notice of Filings #2

Take notice that the Commission received the following electric rate filings:

Docket Numbers: ER15-212-001.

Applicants: Southwest Power Pool, Inc.

Description: Tariff Amendment per 35.17(b): 2900R1 Substitute Kansas Municipal Energy Agency NITSA NOA to be effective 8/1/2014.

Filed Date: 11/24/14.

Accession Number: 20141124-5118.

Comments Due: 5 p.m. ET 12/15/14.

Docket Numbers: ER15-232-001.

Applicants: Southwest Power Pool, Inc.

Description: Tariff Amendment per 35.17(b): 2415R3 Substitute Kansas Municipal Energy Agency NITSA & NOA to be effective 8/1/2014.

Filed Date: 11/24/14.

Accession Number: 20141124-5158.

Comments Due: 5 p.m. ET 12/15/14.

Docket Numbers: ER15-466-000.

Applicants: Midcontinent Independent System Operator, Inc.

Description: § 205(d) rate filing per 35.13(a)(2)(iii): 2014-11-24 City of Alexandria to Schedules 7,8,9 to be effective 12/1/2014.

Filed Date: 11/24/14.

Accession Number: 20141124-5120.

Comments Due: 5 p.m. ET 12/15/14.

Docket Numbers: ER15-467-000.

Applicants: Midcontinent Independent System Operator, Inc.

Description: § 205(d) rate filing per 35.13(a)(2)(iii): 2014-11-24 SA 2414 ATC-Dairyland T-T 1st Rev. to be effective 10/25/2014.

Filed Date: 11/24/14.

Accession Number: 20141124-5135.

Comments Due: 5 p.m. ET 12/15/14.

Docket Numbers: ER15-468-000.

Applicants: Bayonne Plant Holding, L.L.C.

Description: Request for Limited Waiver of Bayonne Plant Holding, L.L.C.

Filed Date: 11/24/14.

Accession Number: 20141124-5155.

Comments Due: 5 p.m. ET 12/15/14.

Docket Numbers: ER15-469-000.

Applicants: Duke Energy Carolinas, LLC.

Description: § 205(d) rate filing per 35.13(a)(2)(iii): NCMPA1 RS 318 Amendment (2014) to be effective 12/31/2014.

Filed Date: 11/24/14.

Accession Number: 20141124-5201.

Comments Due: 5 p.m. ET 12/15/14.

Take notice that the Commission received the following PURPA 210(m)(3) filings:

Docket Numbers: QM14-3-000.

Applicants: Entergy Arkansas, Inc., Entergy Gulf States Louisiana, L.L.C., Entergy Louisiana, LLC, Entergy Mississippi, Inc., Entergy New Orleans, Inc., Entergy Services, Inc., Entergy Texas, Inc., Entergy Services, Inc.

Description: Motion for Leave to Answer and Answer to Protests of Entergy Services, Inc., et al.

Filed Date: 11/21/14.

Accession Number: 20141121-5265.

Comments Due: 5 p.m. ET 12/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2014.
Nathaniel J. Davis, Sr.,
Deputy Secretary.

[FR Doc. 2014-28471 Filed 12-3-14; 8:45 am]

BILLING CODE 6717-01-P